DEPARTMENT OF TRANSPORTATION

Federal Highway Administration

[Project Number SP-0008-03(048)]

Environmental Impact Statement: Rankin County, MS

AGENCY: Federal Highway Administration (FHWA), Department of Transportation (DOT).

ACTION: Notice of Intent.

SUMMARY: The FHWA is issuing this notice to advise the public that an environmental impact statement will be prepared for a proposed highway project in Rankin County, Mississippi. The project study area will extend a distance of approximately 15 miles from U.S. Highway 49 near Star, Mississippi, to Interstate 20 near State Route 475 in Pearl, Mississippi.

FOR FURTHER INFORMATION CONTACT: Mr. Dickie Walters, Environmental Protection Specialist, Federal Highway Administration, 666 North Street, Suite 105, Jackson, MS 39202-3199, Telephone: (601) 965-4217. Contact at the State level is Mr. Claiborne Barnwell, Environmental/Location Division Engineer, Mississippi Department of Transportation, P.O. Box 1850, Jackson, MS 39215-1850, telephone: (601) 359-7920.

SUPPLEMENTARY INFORMATION: The FHWA, in cooperation with the Mississippi Department of Transportation (MDOT), will prepare an Environmental Impact Statement (EIS) for a U.S. Highway 49 Star Connector in Rankin County, Mississippi. The proposed improvements are intended to help alleviate high levels of congestion and travel delays on U.S. Highway 49 between Star and Interstate 20.

A Coordination Plan for Agency and Public Involvement will be developed in accordance with Public Law 109-59, SAFETEA-LU, Title VI, Section 6002, Efficient Environmental Reviews for Project Decision Making, August 10, 2005, and will outline the process by which project information will be communicated to the lead, cooperating, participating, and other agencies and organizations, and the public. This plan will also identify how input from agencies and the public will be solicited and considered. The Coordination Plan is intended to be a flexible and fluid document and will be available at public and agency meetings for review.

The purpose of the EIS is to address the transportation, environmental, and safety issues of such a transportation corridor. The proposed fully controlled U.S. Highway 49 Star Connector on new location would provide a safer roadway and improve mobility for those traveling to or through the Jackson Metropolitan area from the South Mississippi region. Additionally, the proposed U.S. Highway 49 Star Connector would create an additional route to I-55 North by providing traffic a route through the planned Airport Parkway reducing movements through the I-55/I-20/U.S. 49 interchange. Alternatives under consideration include (1) taking no action and (2) build alternatives.

The FHWA and MDOT are seeking input as a part of the scoping process to assist in determining and clarifying issues relative to this project. Letters describing the proposed action and soliciting comments will be sent to appropriate Federal, State, and local agencies, Native American tribes, private organizations and citizens who have previously expressed or are known to have interest in this proposal. A formal scoping meeting with Federal, State, and local agencies, and other interested parties will be held in the near future. Public involvement meetings will be held during the EIS process. The draft EIS will be available for public and agency review and comment prior to the official public hearing.

To ensure that the full range of issues related to this proposed action are addressed and all significant issues identified, comments and suggestions are invited from all interested parties. Comments or questions concerning this proposed action and the EIS should be directed to the FHWA at the address provided above.

Dated: May 18, 2009.
Donald E. Davis,
Assistant Division Administrator, Federal Highway Administration, Mississippi Division, Jackson, Mississippi.

[FR Doc. E9-11991 Filed 5-21-09; 8:45 am]

BILLING CODE P